ENVIRONMENTAL PROTECTION AGENCY

[EPA-HQ-ORD-2015-0765; FRL-9954-23-OAR]

Board of Scientific Counselors Executive Committee; Notification of Public Teleconference and Public Comment

AGENCY: Environmental Protection Agency (EPA).

ACTION: Notification of public teleconference and public comment.

SUMMARY: Pursuant to the Federal Advisory Committee Act, Public Law 92-463, the U.S. Environmental Protection Agency hereby provides notice that the Board of Scientific Counselors (BOSC) Executive Committee will host a public teleconference convening on November 1, 2016, from 1:00 p.m. to 5:00 p.m. Eastern Time. The primary discussion will be on ORD's Cross-Cutting Research Roadmaps: Environmental Justice, Climate Change, Nitrogen and Children's Environmental Health. There will also be an update on social science and program evaluation. The public is invited to provide comment from 1:25 p.m. to 1:35 p.m. Eastern Time. For information on registering to participate on the teleconference or to provide public comment, please see the DATES and SUPPLEMENTARY INFORMATION sections below. Due to a limited number of telephone lines, attendance will be on a first-come, first-served basis. Advance registration is required. Registration for participating via teleconference closes October 28, 2016. The deadline to sign up to speak during the public comment period or to submit written public comment is October 28, 2016.

DATES: The BOSC Executive Committee meeting will be held on November 1, 2016. All times noted are Eastern Time and are approximate. To participate on the teleconference you must register at the following site: https://www.eventbrite.com/e/us-epa-bosc-executive-committee-teleconference-registration-25993266560. Once you have completed the online registration, you will be contacted and provided with the teleconference instructions.

FOR FURTHER INFORMATION CONTACT: Questions or correspondence concerning the meeting should be directed to Tom Tracy, Designated Federal Officer, Environmental Protection Agency, by mail at 1200 Pennsylvania Avenue NW., MC 8104 R, Washington, DC 20460; by telephone at 202-564-6518; by fax at 202-565-2911; or via email at tracy.tom@epa.gov.

SUPPLEMENTARY INFORMATION: The Charter of the BOSC states that the advisory committee shall provide independent advice to the Administrator on technical and management aspects of the ORD's research program. Additional information about the BOSC is available at: http://www2.epa.gov/bosc. Members of the public who wish to provide oral comment during the meeting must preregister. Individuals or groups making remarks during the public comment period will be limited to five (5) minutes. To accommodate the number of people who want to address the BOSC Executive Committee, only one representative of a particular community, organization, or group will be allowed to speak. Written comments for the public meeting must be received by October 28, 2016, and will be included in the materials distributed to the BOSC Executive Committee prior to the meeting. Written comments should be sent to Tom Tracy, Environmental Protection Agency, via email at tracy.tom@epa.gov or by mail to 1200 Pennsylvania Avenue NW., (MC 8104 R), Washington, DC 20460, or submitted through regulations.gov, Docket ID No. EPA-HQ-ORD-2015-0765. Members of the public should be aware that their personal contact information, if included in any written comments, may be posted online at regulations.gov. Information about Services for Individuals with Disabilities: For information about access or services for individuals with disabilities, please contact Tom Tracy no later than October 26, 2016, to give the Environmental Protection Agency sufficient time to process your request.

Dated: October 6, 2016.
Fred S. Hauchman,
Director, Office of Science Policy.

[FR Doc. 2016-24916 Filed 10-13-16; 8:45 am]

BILLING CODE 6560-50-P